DEPARTMENT OF LABOR

Employment and Training Administration

[TA-W-70,017]

Century Aluminum of West Virginia, Inc., Reduction Aluminum Smelter Division; Including On-Site Leased Workers From Professional Services of America (PSA) and Real Time Staffing, Ravenswood, WV; Amended Certification Regarding Eligibility To Apply for Worker Adjustment Assistance

In accordance with Section 223 of the Trade Act of 1974, as amended (“Act”), 19 U.S.C. 2273, the Department of Labor issued a Certification of Eligibility to Apply for Worker Adjustment Assistance on June 19. 2009, applicable to workers of Century Aluminum of West Virginia, Inc., Reduction Aluminum Smelter Division, Ravenswood, West Virginia. The notice was published in the Federal Register August 19, 2009 (74 FR 41935). At the request of the State Agency, the Department reviewed the certification for workers of the subject firm. The workers are engaged in the production of primary aluminum.

The company reports that on-site leased workers from Professional Services of America (PSA) and Real Time Staffing were employed on-site at the Ravenswood, West Virginia location of Century Aluminum of West Virginia, Inc., Reduction Aluminum Smelter Division. The Department has determined that these workers were sufficiently under the control of the subject firm to be considered leased workers.

Based on these findings, the Department is amending this certification to include workers leased from Professional Services of America (PSA) and Real Time Staffing working on-site at the Ravenswood, West Virginia location of Century Aluminum of West Virginia, Inc., Reduction Aluminum Smelter Division.

The amended notice applicable to TA-W-70,017 is hereby issued as follows:

“All workers of Century Aluminum of West Virginia, Inc., Reduction Aluminum Smelter Division, including on-site leased workers from Professional Services of America and real Time Staffing, Ravenswood, West Virginia, who became totally or partially separated from employment on or after May 18, 2008, through June 19, 2011, and all workers in the group threatened with total or partial separation from employment on June 19, 2009 through June 19, 2011, are eligible to apply for adjustment assistance under Chapter 2 of Title II of the Trade Act of 1974, as amended.”

Signed at Washington, DC, this 28th day of August 2009.
Richard Church,
Certifying Officer, Division of Trade Adjustment Assistance.

[FR Doc. E9-22766 Filed 9-21-09; 8:45 am]

BILLING CODE 4510-FN-P